DEPARTMENT OF ENERGY

Federal Energy Regulatory Commission

[Project No. 7887-019]

Ashuelot River Hydro, Inc.; Notice of Technical Conference

On Thursday, March 27, 2025, Commission staff will hold a technical conference to provide clarification to Ashuelot River Hydro, Inc. (Ashuelot) regarding Commission staff's additional information request (AIR) issued on November 6, 2024, for the Minnewawa Hydroelectric Project No. 7887.

The conference will be held via teleconference beginning at 10:30 a.m. Eastern Daylight Time. Discussion topics for the technical conference include: (1) the information provided in Ashuelot's June 28, 2024 license application and January 16, 2025 partial response to Commission staff's November 6, 2024 AIR; and (2) additional data and analysis necessary to address dam safety and stability AIRs (AIR 1 through 6).

All local, state, and federal agencies, Indian Tribes, and other interested parties are invited to participate. There will be no transcript of the conference, but a summary of the meeting will be prepared for the project record. If you are interested in participating in the meeting you must contact Justin R. Robbins at (202) 502-8308 or justin.robbins@ferc.gov by March 24, 2025 to receive specific instructions on how to participate.

Dated: March 12, 2025.
Debbie-Anne Reese,
Secretary.

[FR Doc. 2025-04482 Filed 3-18-25; 8:45 am]

BILLING CODE 6717-01-P